DEPARTMENT OF TRANSPORTATION

Federal Aviation Administration

Advisory Circular 23.1311-1B, Installation of Electronic Display in Part 23 Airplanes

AGENCY: Federal Aviation Administration (FAA), DOT.

ACTION: Notice of issuance of advisory circular.

SUMMARY: This notice announces the issuance of Advisory Circular (AC) 23.1311-1B, Installation of Electronic Display in Part 23 Airplanes. This AC sets forth acceptable methods of compliance with the provisions of 14 CFR part 23 applicable to installing electronic displays in part 23 airplanes. This notice is necessary to advise the public of the availability of the AC.

DATES: Advisory Circular 23.1311-1B was issued by the Acting Manager of the Small Airplane Directorate on June 14, 2005.

How to Obtain Copies: A paper copy of AC 23.1311-1B may be obtained by writing to the U. S. Department of Transportation, Subsequent Distribution Office, DOT Warehouse, SVC-121.23, Ardmore East Business Center, 3341Q 75th Ave., Landover, MD 20785, telephone 301-322-5377, or by faxing your request to the warehouse at 301-386-5394. The AC will also be available on the Internet at http:/www.faa.gov/aircraft/ under the “Regulations & Policies” tab.

Issued in Kansas City, Missouri on June 14, 2005.
John Colomy,
Acting Manager, Small Airplane Directorate, Aircraft Certification Service.

[FR Doc. 05-12373 Filed 6-21-05; 8:45 am]

BILLING CODE 4910-13-P